DEPARTMENT OF HEALTH AND HUMAN SERVICES

Announcement of Anticipated Availability of Funds for Family Planning Clinical Specialty Training Projects

AGENCY: Department of Health and Human Services, Office of the Secretary, Office of Public Health and Science, Office of Population Affairs.

ACTION: Notice.

Authority: Section 1003 of the Public Health Service (PHS) Act.

Executive Summary: The Office of Population Affairs (OPA) requests applications for a grant to establish and operate a clinical specialty training program for health care practitioners and registered professional nurses who provide family planning and related clinical preventive health services in title X family planning services projects in Public Health Service Regions VI-X.

DATES: To receive consideration, applications must be received by the Office of Public Health and Science (OPHS) Grants Management Office no later than August 8, 2003.

ADDRESSES: Application kits may be requested from, and applications submitted to: the Office of Public Health and Science (OPHS) Grants Management Office, 1101 Wootton Parkway, Suite 550, Rockville, MD 20852, 301-594-0758. Application kits are also available online at the Office of Population Affairs Web site at http://opa.osophs.dhhs.gov or by FAX at 301-594-9399.

CFDA: A description of the title X Family Planning Training Program can be found at OMB Catalog of Federal Domestic Assistance 93.260. A description of title X Family Planning Services Program can be found at OMB Catalog of Federal Domestic Assistance 93.217

SUPPLEMENTARY INFORMATION: Title X of the PHS Act, 42 U.S.C. 300, et seq., authorizes grants for projects to provide family planning services to persons from low-income families and others. Section 1001 of the Act, as amended, authorizes grants “to assist in the establishment and operation of voluntary family planning projects which shall offer a broad range of acceptable and effective family planning methods and services (including natural family planning methods, infertility services, and services for adolescents).” Section 1003 of the Act, as amended, authorizes the Secretary of Health and Human Services to award grants to entities to provide the training for personnel to carry out family planning service programs. Section 1008 of the Act, as amended, stipulates that “none of the funds appropriated under this title shall be used in programs where abortion is a method of family planning.”

The regulations set out at 42 CFR part 59, subpart C, govern grants to provide training for family planning service providers. Prospective applicants should refer to the regulations in their entirety. Training provided must be in accordance with the requirements regarding the provision of family planning services under title X. These requirements can be found in the title X statute, the implementing regulations which govern project grants for family planning services (42 CFR part 59, subpart A), and the “Program Guidelines for Project Grants for Family Planning Services,” issued in January 2001. Copies of the title X statute, regulations, and Program Guidelines may be obtained by contacting the OPHS Grants Management Office or may be downloaded from the Office of Population Affairs Web site at http://opa.osophs.dhhs.gov.

A copy of the legislation and regulations governing this program will be included as part of the application kit package. Applicants should use the legislation, regulations and other information included in this announcement to guide them in developing their applications.

Definitions: For the purposes of this announcement, the following definitions apply:

Advanced practice nurse—a registered professional nurse who has graduated from an educational program beyond basic nursing preparation, and is currently recognized to practice as an advanced practice nurse in at least one state, including current licensure as a registered nurse in that state.

Application—a request for financial support of a project submitted to OPA on specified forms and in accordance with instructions provided.

Evidence-based—relevant scientific evidence that has undergone comprehensive review and rigorous analysis.

Family planning training—job-specific skill development, the purpose of which is to promote and improve the delivery of family planning services. According to section 1001 of the Act, as amended, family planning services include offering “a broad range of acceptable and effective family planning methods and services (including natural family planning methods, infertility services, and services for adolescents).” The title X Regulations, 42 CFR 59.1, further stipulate that “These projects shall consist of the educational, comprehensive medical, and social services necessary to aid individuals to determine freely the number and spacing of their children.” Section 1008 states that “None of the funds appropriated under this title shall be used in programs where abortion is al method of family planning.”

Family planning clinical specialty training—specialized, evidence-based family planning training, the purpose of which is to promote and improve the knowledge, skills, and abilities of persons delivering clinical family planning services.

Grant—financial assistance in the form of money, awarded by the Federal government to an eligible recipient (a grantee or recipient is the entity that receives a Federal grant and assumes the legal and financial responsibility and accountability for the awarded funds and performance of activities approved for funding).

Health care practitioner—an advanced practice nurse, physician's assistant, Doctor of Medicine or Doctor of Osteopathy who is recognized by a state to practice within the scope of the applicable state practice act or law.

Project—those activities described in the grant application and supported under the approved budget.

Registered professional nurse—a nurse who has graduated from a state-approved nursing education program and is currently licensed to practice as a registered nurse in at least one state.

I. Funding Opportunity Description

This announcement seeks proposals from public and private non-profit entities to establish and operate a clinical specialty training program for health care practitioners and registered professional nurses who provide family planning and related clinical preventive health services in title X family planning services projects in Public Health Service Regions VI-X.

Background

From the early 1970s through the year 2000, the Office of Family Planning in the Office of Population Affairs funded certificate family planning/women's health nurse practitioner training programs to prepare registered professional nurses to serve the clinical needs of clients in title X family planning services projects. Changes in state practice requirements and the health care system, as well as the increasing availability of more broadly prepared providers, under-utilization of the title X-supported nurse practitioner training programs, and the growing diversity of populations served in title X family planning services projects (including an increasing number of males) prompted a reassessment of the need for the certificate nurse practitioner training program. This reassessment prompted the transition depicted in the March 23, 1999, Federal Register notice (64 FR 14080) requesting applications for Family Planning Nurse Practitioner and Specialty Training grants. This announcement phased-out full-course certificate nurse practitioner training, and replaced it with targeted specialty training in family planning and reproductive health for credentialed advanced practice nurses, physician's assistants, and physicians. These projects have been in operation for three years.

Title X family planning services project grantees, training providers, and Federal title X staff have recently identified a need to also provide continuing education training for registered professional nurses working in family planning projects who are not advanced practice nurses. This component has been incorporated into this solicitation for applications, but may not include training for procedures or practices that are beyond the scope of nursing practice, as delineated by the Nurse Practice Act for a specific state.

Purpose of the Grant

The purpose of the clinical specialty training program is to ensure that health care practitioners and registered professional nurses working in Title X family planning services projects have the knowledge, skills, and abilities necessary to provide effective, high quality clinical family planning services.

The training program funded under this announcement will be responsible for design and delivery of specialty training for health care practitioners and registered professional nurses which will enhance knowledge, skills, and abilities in the provision of family planning and related clinical preventive health services in title X-funded projects. The grantee funded under this announcement will be expected to conduct two types of training activities: (1) Clinical specialty training course(s) specific to the provision of clinical family planning and related clinical preventive health services specifically designed for health care practitioners in title X family planning services projects; and (2) continuing education content relevant to the provision of family planning and related clinical preventive health services. This continuing education content may be offered to either registered professional nurses or health care practitioners working in title X family planning services projects. Training provided with these grant funds is not intended to substitute for formal nurse practitioner education, but rather to enhance the ability of multiple levels of clinical providers to deliver quality family planning and related clinical preventive health services within the scope of applicable State practice acts or laws. Training content and design should be adjusted to the skill and practice role of the target audience as well as the scope of practice as delineated in applicable State practice acts or laws.

Content of specialty training may vary depending on the needs of the service providers in the applicable regions. However, all course offerings should promote and improve family planning and related preventive health knowledge and clinical skills as they relate to the provision of family planning services in title X-funded projects. Clinical specialty training course(s) are available only to health care practitioners as defined in this announcement. Registered professional nurses, as defined in this announcement, may participate only in continuing education offerings that are not intended to train on procedures or practices that are appropriate to the role of the health care practitioner. Continuing education credits must be available for all training activities provided under this announcement.

The content and number of offerings should be based on an assessment of the need of the title X family planning service providers in the applicable regions. Offerings should be designed and delivered in a manner appropriate to the content and professional preparation of the participants. The on-site didactic and supervised clinical components of specialty course offerings for health care practitioners should provide adequate time for instruction and interaction with faculty, but should not exceed a total of three weeks per course. Distance learning components should provide an opportunity for interaction with faculty if needed, and reasonable time for completion of the offering(s).

II. Award Information

OPA intends to make available approximately $200,000-$300,000 per year for up to two years to support one clinical specialty training program to provide specialty training to health care practitioners and registered professional nurses working in title X family planning services projects in PHS Regions VI-X. The area to be served by this training program includes: Region VI (Arkansas, Louisiana, New Mexico, Texas and Oklahoma); Region VII (Iowa, Kansas, Missouri and Nebraska); Region VIII (Colorado, Montana, North Dakota, South Dakota, Utah and Wyoming); Region IX (Arizona, California, Hawaii, Nevada, American Samoa, Federated States of Micronesia, Republic of Marshall Islands, Commonwealth of Northern Mariana Islands, Republic of Palau and Guam); Region X (Alaska, Idaho, Oregon and Washington). The grant will be funded in annual increments (budget periods) and may be approved for a project period of up to two years. A match of non-Federal funds will not be required. Funding for all budget periods beyond the first year of the grant is contingent upon the availability of funds, satisfactory progress on the project, and adequate stewardship of Federal funds.

III. Eligibility Information

Any public or nonprofit private entity located in a State (which includes one of the 50 United States, the District of Columbia, Commonwealth of Puerto Rico, U.S. Virgin Islands, Commonwealth of the Northern Mariana Islands, American Samoa, Guam, Republic of Palau, Federated States of Micronesia, and the Republic of the Marshall Islands) is eligible to apply for a grant under this announcement. Faith-based organizations are eligible to apply for these title X family planning clinical specialty training grants.

If the successful applicant is not physically located within one of the applicable regions, a major training facility of the organization must be located within the cluster of regions the applicant will serve.

An award will be made only to that organization or agency which has met all applicable requirements and which demonstrates the capability of providing the proposed services.

IV. Application and Submission Requirements

Applications must be submitted on the Form OPHS-1 (Revised 6/01) and in the manner prescribed in the application kits. Applications should be limited to 50 double-spaced pages, not including appendices. Appendices may provide curriculum vitae, curriculum, or examples of organizational capabilities, or other supplemental information which supports the application.

Applicants are required to submit an original and two copies of the application. The original application must be signed by an individual authorized to act for the applicant agency or organization and to assume for the organization the obligations imposed by the terms and conditions of the grant award.

Applications must include a one-page abstract of the proposed project. The abstract will be used to provide reviewers with an overview of the application, and will form the basis for the application summary in grants management documents.

Applications will be considered as meeting the deadline if they are postmarked on or before the deadline listed in the DATES section of this announcement, and received in time for orderly processing. A legibly dated receipt from a commercial carrier or U.S. Postal Service will be accepted in lieu of a postmark. Private metered postmarks will not be accepted as proof of timely mailing. Hand-delivered applications must be received by the OPHS Grants Management Office not later than 4:30 p.m. eastern standard time on the application due date. Applications which are delivered to the OPHS Grants Management Office after the deadline date will not be accepted for review.

Applicants that meet the requirements of this program announcement will be notified by the Office of Grants Management. Applications which do not conform to the requirements of this program announcement or which do not meet the applicable parts of 42 CFR part 59, subpart C, will not be accepted for review, and will be returned to the applicant.

Applications sent via facsimile or electronic mail will not be accepted for review.

Review Under Executive Order 12372

Applications under this announcement are subject to the review requirements of Executive Order 12372, as implemented by 45 CFR part 100, “Intergovernmental Review of Department of Health and Human Services Programs and Activities.” As soon as possible, the applicant should discuss the project with the State Single Point of Contact (SPOC) for each State in the area to be served. The application kit contains the currently available listing of the SPOC's which have elected to be informed of the submission of applications. For those states not represented on the listing, further inquiries should be made by applicant regarding the submission to the relevant SPOC. The SPOC should forward any comment(s) to the OPHS Grants Management Office, 1101 Wootton Parkway, Suite 550, Rockville, MD 20852. The SPOC has 50 days from the closing date of this announcement to submit any comments.

Program Requirements/Application Content

The application must include the proposed curriculum outline for the specialty training course for health care practitioners, other projected continuing education offerings and subject areas, admissions criteria, training plan, and course schedule for the first year of the training project. Training content described in the application should include the following topics: (1) Abstinence education and counseling; (2) HIV/AIDS and sexually transmitted disease (STD) education and counseling; and (3) intimate partner violence and compliance with state reporting laws regarding child abuse, child molestation, sexual abuse, rape or incest. Education regarding the prevention of HIV/AIDS should incorporate the “ABC” message. That is, for adolescents and unmarried individuals, the message is “A” for abstinence; for married or individuals in committed relationships, the message is “B” for being faithful; and, for individuals who engage in behavior that puts them at risk for HIV, the message is “C” for condom use.

The successful specialty training application will include, at a minimum, a description of how the following components will be implemented in the training program:

• Training specific to provision of clinical family planning and related clinical preventive health services in title X-funded projects, including training on abstinence education and counseling, HIV/AIDS education and counseling, which incorporates the “ABC” message, and STD prevention education and counseling;

• Face-to-face didactic and supervised clinical courses for increasing knowledge and enhancing clinical skills of health care practitioners in selected content areas (e.g., women's reproductive health, men's reproductive health, IUD insertion, etc.);

• Methodology for evaluating the knowledge, competence and skill level of health care practitioners and registered professional nurses after completion of training as compared with their knowledge, competence and skill level prior to completion of training;

• Availability of continuing education credit through on-site and/or distance learning for registered professional nurses and health care practitioners;

• Clinical mentor/preceptorship arrangements for health care practitioners returning to clinical practice settings;

• Training in identifying and providing appropriate counseling and referral in cases of intimate partner violence;

• Training in identifying cases of child abuse, child molestation, sexual abuse, rape, or incest, and in complying with applicable state reporting laws.

In order to assure integration into practice of the knowledge and skills learned in the on-site component of specialty course offerings, the successful applicant will include a strategy for incorporating a clinical mentorship/preceptorship component for health care practitioners returning to their clinical practice settings. The successful applicant will demonstrate the ability to maximize available resources to achieve the objectives of the program.

The successful applicant will be responsible for all costs associated with training program administration and management, and for training costs directly associated with the on-site portion of title X-sponsored trainee preparation (e.g., educational materials, classroom and clinical training sites, etc.). The training project is not expected to be responsible for transportation, housing and other personal expenses incurred by trainees. However, the training project should be prepared to assist trainees with making necessary arrangements at a reasonable cost.

OPA is currently funding a clinical specialty training project which serves Public Health Service Regions I-V. Each training project is intended to provide training primarily for title X family planning services projects located in the applicable Regions. However, it is expected that the applicant funded under this announcement will work with the currently funded project to enable potential students to apply for admission to the alternate program on a space-available basis and to access offerings unique to that program.

The successful applicant will be responsible for the overall management of training activities within the scope of the approved training plan. This responsibility includes:

1. Meeting national or State recognition requirements as a provider of continuing nursing education through a national nursing organization or one of its constituents;

2. Facilitating the award of continuing education units (CEUs) and/or continuing medical education hours (CMEs) for all courses to program participants;

3. Considering for admission trainees from title X-funded services projects before accepting privately-funded students. Cost of training for non-title X participants may not be covered by this grant. Revenues generated by training non-title X participants is considered grant-related income and is subject the requirements of such;

4. Conducting an annual assessment of the need for family planning and related clinical preventive health services training for title X clinical service providers in the applicable regions;

5. Maintaining data on training activities and trainees sufficient to allow evaluation by accrediting bodies, licensing bodies, and OPA;

6. Developing and implementing an evaluation plan which assesses all aspects of the training program and is consistent with the scope of the training program. Evaluation should include not only the content of the clinical specialty training, the delivery mechanisms, and how well the offerings met the needs of the trainee and sponsoring agency, but also a description of how the training program will be evaluated in terms of improving the quality of care provided;

7. Submitting to OPA, as part of the annual progress report, the following data regarding trainees and training activities:

a. Trainees: State; sponsoring agency including funding source (i.e., title X or non-title X); race/ethnicity; professional classification (e.g., registered professional nurse, type of health care practitioner); courses/offerings attended; course completion data; and number of CEUs/CMEs awarded.

b. Training activities: Title of course/offering; location; hours on site (didactic and clinical)/hours distance learning; course content; number of CEUs/CMEs offered; number and professional classification of attendees; faculty data; outcome information.

The successful applicant will be required to work closely with title X Family Planning Central and Regional Office staffs and a network of agencies which include title X service providers and training advisory committees. Working in collaboration with the Regional Training Centers for Family Planning and the existing clinical specialty training program for Regions I-V is strongly encouraged. The grantee will be expected to make available, at cost, all materials developed with title X funds as requested by other title X projects. The grantee will be required to participate in at least one meeting with the Office of Family Planning/OPA each year.

Funding Restrictions

The cost to the grant per title X-supported health care practitioner student for a comprehensive 3-week on-site specialty course may not exceed $3,000. The maximum cost to the grant for CEUs or CMEs for shorter course offerings must be specified in the application, but may not exceed $20 per contact hour. The maximum funding level for any submission is $200,000-$300,000. Funding level will depend upon the scope of the proposed program. There should be no charge to individual students from title X agencies for attendance at Specialty Training offerings supported by this grant.

Indirect costs are limited to eight percent of modified total direct cost as a flat amount for reimbursement under training grants (Grants Policy Directive Part 3.01: Post-Award-Indirect Cost and Other Cost Policies, HHS Transmittal 98.01).

V. Application Review Information

Eligible grant applications will be reviewed by a panel of independent reviewers and assessed according to the following criteria:

1. The degree to which the project plan adequately provides for the requirements set forth in 42 CFR 59.205 (20 points);

2. The extent to which the proposed clinical specialty training program will increase the delivery of services to people, particularly low-income groups, with a high percentage of unmet need for family planning services (20 points);

3. The extent to which the training program promises to fulfill the family planning services delivery needs of the area to be served, which may include, among other things:

(i) Development of clinical family planning and related clinical preventive health care knowledge and expertise within family planning services projects to provide orientation and in-service training to their own staffs;

(ii) Improvement of the family planning services delivery skills of registered professional nurses and health care practitioners;

(iii) Improvement in the utilization and career development of clinical providers in family planning services projects;

(iv) Expansion of family planning services, particularly in rural areas, through new or improved approaches to program planning and deployment of resources;(20 points total for this section);

4. The competence of the project staff in relation to the services to be provided (15 points);

5. The administrative and management capability and competence of the applicant (15 points); and

6. The capacity of the applicant to make rapid and effective use of the grant assistance, including evidence of flexibility in the utilization of resources and training plan design (10 points).

The design of the specialty training program, including the curricula, must be consistent with title X statute and regulations. The application should demonstrate the applicant's expertise and ability to develop, implement, manage and evaluate clinical training in family planning and related clinical preventive health services.

Final grant award decisions will be made by the Deputy Assistant Secretary for Population Affairs. In making these decisions, the Deputy Assistant Secretary for Population Affairs will take into consideration: recommendations of the review panel; reviews for programmatic and grants management compliance; available funding; and, geographic characteristics of the applicant organization in relation to the area to be served. An award will be made only to an organization which has demonstrated the capability of providing the proposed services and which has met all applicable requirements.

VI. Award Administration Information

OPA does not release information about individual applications during the review process until final funding decisions have been made. When these decisions have been made, applicants will be notified by letter regarding the outcome of their applications. The official document notifying an applicant that a project application has been approved for funding is the Notice of Grant Award, which specifies to the grantee the amount of money awarded, the purposes of the grant, the length of the project period, and terms and conditions of the grant award.

Within 60 days of the Notice of Grant Award, a finalized specialty training course curriculum outline(s), admissions criteria, training plan, course schedule, and other continuing education course offerings will be negotiated with the Office of Family Planning (OFP). In the succeeding year, the training plan, course schedule, and continuing education courses will be a part of the continuation application. Any changes to the curriculum outline or admissions criteria after the first year must also be submitted as part of the continuation application.

VII. Agency Contacts

For assistance on administrative and budgetary requirements, Karen Campbell, OPHS Grants Management Office, 301-594-0758; for assistance with questions regarding program requirements, Kathleen Woodall, Office of Family Planning, Office of Population Affairs, 301-594-4008.

Dated: June 13, 2003.
Alma L. Golden,
Deputy Assistant Secretary for Population Affairs.

[FR Doc. 03-15513 Filed 6-18-03; 8:45 am]

BILLING CODE 4150-34-P